DEPARTMENT OF HEALTH AND HUMAN SERVICES

Health Resources and Services Administration

Agency Information Collection Activities: Proposed Collection: Public Comment Request; Information Collection Request Title: Rural Maternity and Obstetrics Management Strategies Program

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than June 6, 2023.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 594-4394.

SUPPLEMENTARY INFORMATION: When submitting comments or requesting information, please include the ICR title for reference.

Information Collection Request Title: Rural Maternity and Obstetrics Management Strategies Program, OMB No. 0906-xxxx-New.

Abstract: HRSA administers the Rural Maternity and Obstetrics Management Strategies (RMOMS) Program, which is authorized by sections 501(a)(2) and 711(b)(5) of the Social Security Act (42 U.S.C. 701(a)(2) and 912(b)(5), respectively), and sections 330A(e) and 330A-2 of the Public Health Service Act (42 U.S.C. 254c(e) and 254c-1b, respectively). These authorities allow HRSA to, among other things, award grants to promote rural health care services outreach by improving and expanding the delivery of health care services to include new and enhanced services in rural areas, through community engagement and evidence-based or innovative, evidence-informed models; as well as establish or continue collaborative improvement and innovation networks to improve access to, and delivery of, maternity and obstetrics care in rural areas.

The RMOMS program grants support networks that improve access to, and continuity of, maternal and obstetrics care in rural communities. The goals of the RMOMS program are to: (1) improve maternal and neonatal outcomes within a rural region; (2) develop a sustainable network approach to increase the delivery and access of preconception, prenatal, pregnancy, labor and delivery, and postpartum services; (3) develop a safe delivery environment with the support and access to specialty care for perinatal patients and infants; and (4) develop sustainable financing models for the provision of maternal and obstetrics care in rural hospitals and communities.

HRSA seeks OMB approval to collect information about RMOMS program grants using performance measures in HRSA's Electronic Handbooks via the Performance Improvement and Measurement System.

Need and Proposed Use of the Information: For this program, performance measures were drafted to provide data to the program and enable HRSA to provide aggregate program data required by Congress under the Government Performance and Results Act of 1993. These measures cover the principal topic areas of interest to the Federal Office of Rural Health Policy, including: (1) consortium/network; (2) sustainability; (3) population demographics; (4) project specific domains. The annual collection of this information helps further inform and substantiate the focus and objectives of the RMOMS program.

Likely Respondents: The respondents will be recipients of the Rural Maternity and Obstetrics Management Strategies Program awards.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Rural Maternity and Obstetrics Management Strategies Program Performance Improvement and Measurement System | 10 | 1 | 10 | 9 | 90
| 10 |  | 10 |  | 90

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-07275 Filed 4-6-23; 8:45 am]

BILLING CODE 4165-15-P